NUCLEAR REGULATORY COMMISSION

Sunshine Act Meeting

Date: Weeks of August 18, 25, September 1, 8, 15, 22, 2003.

Place: Commissioners' Conference Room, 11555 Rockville Pike, Rockville, Maryland.

Status: Public and closed.

Matters to Be Considered:

Week of August 18, 2003

There are no meetings scheduled for the Week of August 18, 2003.

Week of August 25, 2003—Tentative

Monday, August 25, 2003

9:30 a.m. Discussion of Investigatory and Enforcement Issues (Closed—Ex. 7 & 5)

Thursday, August 28, 2003

2 p.m. Discussion of Intragovernmental Issues (Closed—Ex. 1 & 9)

Week of September 1, 2003—Tentative

There are no meetings scheduled for the Week of September 1, 2003.

Week of September 8, 2003—Tentative

Wednesday, September 10, 2003

1 p.m. Meeting with Organization of Agreement States (OAS) and Conference of Radiation Control Program Directors (CRCPD) (Public Meeting) (Contact: John Zabko, 301-410-2308)

This meeting will be webcast live at the Web address— http://www.nrc.gov

3 p.m. Discussion of Security Issues (Closed—Ex. 1)

Thursday September 11, 2003

1:30 p.m. Discussion of Security Issues (Closed—Ex. 1)

Week of September 15, 2003—Tentative

There are no meetings scheduled for the Week of September 15, 2003.

Week of September 22, 2003—Tentative

There are no meetings scheduled for the Week of September 22, 2003.

*The schedule for Commission meetings is subject to change on short notice. To verify the status of meetings call (recoding)—(301) 415-1292. Contact person for more Information: David Louis Gamberoni (301) 415-1651.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 14, 2003.
D.L. Gamberoni,
Technical Coordinator, Office of the Secretary

.

[FR Doc. 03-21291 Filed 8-15-03; 11:09 am]

BILLING CODE 7590-01-M